DEPARTMENT OF DEFENSE

Department of the Army, Corps of Engineers

Notice of Intent To Prepare an Environmental Impact Statement for construction of the Proposed Delta Conveyance Project, Sacramento, San Joaquin, Contra Costa, and Alameda Counties, CA

AGENCY: Department of the Army, U.S. Army Corps of Engineers, DoD.

ACTION: Notice of Intent.

SUMMARY: The U.S. Army Corps of Engineers Sacramento District (USACE), as the lead agency under the National Environmental Policy Act (NEPA), will prepare an Environmental Impact Statement (EIS) for construction of the Delta Conveyance Project. The California Department of Water Resources (DWR) is the project proponent and will be referred to hereafter as the Applicant. The EIS will analyze the Applicant's proposed action to construct new conveyance facilities in the Sacramento-San Joaquin Delta (Delta) which includes intake facilities on the Sacramento River, tunnel reaches and tunnel shafts, a southern forebay and pumping plant, and south Delta Conveyance facilities that would connect to the existing State Water Project (SWP) infrastructure.

ADDRESSES: U.S. Army Corps of Engineers, Sacramento Regulatory Division, Attn: Mr. Zachary Simmons, 1325 J Street, Room 1350, Sacramento, CA 95814-2922.

FOR FURTHER INFORMATION CONTACT: Questions about the proposed action and EIS can be answered by Mr. Zachary Simmons, at (916) 557-6746, by email at Zachary.M.Simmons@usace.army.mil; or mail at U.S. Army Corps of Engineers, Sacramento Regulatory Division, Attn: Mr. Zachary Simmons, 1325 J Street, Room 1350, Sacramento, CA 95814-2922. Requests to be placed on the electronic or surface mail notification lists should also be sent to this address. For further information or media inquiries, contact Mr. Paul Bruton at (916) 557-5166, or by email at spk-pao@usace.army.mil.

SUPPLEMENTARY INFORMATION: The proposed action requires permission from USACE is required under Section 14 of the Rivers and Harbors Act (RHA). In addition, the proposed work in navigable waters and discharge of dredge or fill material into waters of the U.S. requires authorization from USACE under Section 10 of the RHA of 1899 and Section 404 of the Clean Water Act.

1. Proposed Action. The project requiring an EIS involves construction of new conveyance facilities in the Delta that would connect to the existing SWP infrastructure. USACE's jurisdiction is limited to construction activities resulting in the discharge of dredge or fill material within waters of the U.S., work or structures within navigable waters, and modifications to the federal levees and navigation projects. The scope of the USACE NEPA review for operations of the new facilities is limited to potential effects to navigation and long-term operations and maintenance of the modifications to federal levees. The scope does not extend to the potential downstream effects from the diversion of water through new intakes or to the overall SWP and water deliveries.

The proposed action includes the construction of new intake facilities, a tunnel, and a forebay. Two new intake facilities would be located in the north Delta along the east bank of the Sacramento River between the communities of Clarksburg and Courtland. The new conveyance facilities would include a tunnel to convey water from the new intakes to a pumping plant and new southern forebay on Byron Tract, immediately west of the existing Clifton Court Forebay. A dual tunnel would connect the new facilities to the existing State Water Project (SWP) Banks Intake Canal in the south Delta. The new facilities would provide the SWP with an alternate location for diversion of water from the Delta and would be operated in coordination with the existing SWP south Delta pumping facilities, resulting in a system also known as “dual conveyance” because there would be two complementary methods to divert and convey water. Under the proposed project, the new north Delta facilities would be sized to convey up to 6,000 cubic feet per second (cfs) of water from the Sacramento River to the SWP facilities in the south Delta.

Because the proposed action would alter Federal levees and cross under a federal navigation project, permission from USACE is required under Section 14 of the Rivers and Harbors Act (RHA) (33 U.S.C. 408) (Section 408). In addition, the proposed work in navigable waters and discharge of dredge or fill material into waters of the U.S. requires authorization from USACE under Section 10 of the RHA (33 U.S.C. 403) and Section 404 of the Clean Water Act (33 U.S.C. 1344). Proposed project elements requiring a permit under Section 404 and/or Section 10 include the construction of the intakes within the Sacramento River and associated intake facilities which include setback levees, two tunnel shafts, and temporary construction work areas. Project elements along the tunnel corridor include 13 crossings of navigable waterways, eight tunnel shafts, access roads and access road improvements, staging areas, tunnel material storage areas, and a barge landing within the Stockton Deep Water Ship Channel (SDWSC) at Lower Roberts Island. Project elements at the southern forebay facilities include construction of the new Southern Forebay, three tunnel shafts, one crossing of a navigable waterway, a pumping plant, outlet and control structure, tunnel material storage area, and temporary construction work areas. Proposed project elements requiring authorization under Section 408 include the crossing under the SDWSC, the barge landing within the SDWSC, and alterations to the Sacramento River Flood Control Project (SRFCP) to construct the intakes within the Sacramento River, associated intake facilities, and construction and maintenance of the setback levees along the Sacramento River. Compensatory mitigation would be required for unavoidable impacts to waters of the U.S. and would be developed during the EIS process.

Construction of the overall conveyance project, if approved, would take approximately 13 years, but the duration of construction at most locations would vary and would not extend for this full construction period. The future operation of the intakes after completion of construction would not be within control or responsibility of the Corps.

2. Alternatives. A number of project alternatives, including the no action alternative and the Applicant's preferred alternative will be evaluated in the EIS in accordance with NEPA (33 CFR part 230 (USACE NEPA Regulations) and 33 CFR part 325, Appendix B (NEPA Implementation Procedures for USACE Regulatory Projects). Current alternatives to be analyzed include variations of the proposed project. Options include two of three possible intake structures, multiple intake structure designs based on impact footprint and fish screen designs, intake and tunnel capacity between 3,000 to 7,500 cfs, and optimizing a tunnel alignment to minimize impacts within either a central Delta or eastern Delta corridor.

3. Scoping Process.

a. Affected Federal, State, regional, and local agencies; Native American Tribes; other interested private organizations; and the general public are invited to participate in the scoping process. Comments can be submitted to the contacts identified above or submitted via the website identified in 4. Scoping Meetings below.

b. The EIS will analyze the environmental effects of construction on the aquatic environment and all other impacts that fall within the USACE jurisdiction. Potentially significant issues to be analyzed in depth include impacts to waters of the United States (including wetlands), the federal flood control project, and air quality. Other impacts include biological resources, special status species, hydrology and water quality, land use, navigation, water supply, aesthetics, recreation, and socioeconomic effects.

c. USACE has invited the U.S. Fish and Wildlife Service, the National Marine Fisheries Service, and the U.S. Environmental Protection Agency to participate as cooperating agencies in the preparation of the EIS. The Applicant is lead agency for the preparation of an Environmental Impact Report (EIR) under the California Environmental Quality Act for the proposed project. The two environmental reviews will be completed as separate, but parallel processes, and result in separate documents.

d. USACE will consult with the State Historic Preservation Officer and with Native American Tribes to comply with the National Historic Preservation Act, and with the U.S. Fish and Wildlife Service (USFWS) and National Marine Fisheries Service (NMFS) to comply with the Endangered Species Act. USACE will also coordinate with the USFWS to comply with the Fish and Wildlife Coordination Act and with NMFS to comply with the Magnuson-Stevens Fishery Conservation and Management Act.

4. Scoping Meetings. Due to the current COVID-19 pandemic and in compliance with Army and USACE directives, no in-person public scoping meetings will be held. Members of the public are invited to view project information and a presentation on the USACE proposed action at https://www.spk.usace.army.mil/Missions/Regulatory/Permitting/Environmental-Impact-Statements/. Comments may be submitted via the website or through email or written comments submitted to the contacts listed above.

5. Availability of the Draft EIS. The draft EIS is scheduled to be available for public review and comment in mid-2021.

Paul E. Owen,
Brigadier General, U.S. Army, Commanding.

[FR Doc. 2020-18197 Filed 8-19-20; 8:45 am]

BILLING CODE 3720-58-P